CONSUMER PRODUCT SAFETY COMMISSION

Submission for OMB Review; Comment Request—Flammability Standards for Clothing Textiles and Vinyl Plastic Film

AGENCY: Consumer Product Safety Commission.

ACTION: Notice.

SUMMARY: Pursuant to the Paperwork Reduction Act of 1995 (44 U.S.C. Chapter 35), the Consumer Product Safety Commission (Commission) announces that it has submitted to the Office of Management and Budget (OMB) a request for extension of approval of a collection of information associated with the Commission's flammability standards for clothing textiles and vinyl plastic film.

DATES: Written comments on this request for extension of approval of information collection requirements should be submitted by March 5, 2010.

ADDRESSES: Written comments on this request for extension of approval of information collection requirements should be captioned “Clothing Textiles and Film, Collection of Information” and submitted by March 5, 2010 to (1) the Office of Information and Regulatory Affairs, Attn: OMB Desk Officer for CPSC, Office of Management and Budget, Washington, DC 20503; telephone: (202) 395-7340, and (2) the Office of the Secretary, Consumer Product Safety Commission, 4330 East West Highway, Bethesda, MD 20814, by e-mail at cpsc-os@cpsc.gov, or by mail or by facsimile at (301) 504-0127.

FOR FURTHER INFORMATION CONTACT: Copies of this request for extension of the information collection requirements and supporting documentation are available from Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION: In the Federal Register of October 29, 2009 (74 FR 55819), the Consumer Product Safety Commission published a notice in accordance with provisions of the Paperwork Reduction Act of 1995 (44 U.S.C. Chapter 35) to announce the agency's intention to seek extension of approval of the collection of information required in the Standard for the Flammability of Clothing Textiles (16 CFR Part 1610) and the Standard for the Flammability of Vinyl Plastic Film (16 CFR Part 1611). These regulations establish requirements for testing and recordkeeping for manufacturers and importers who furnish guaranties for products subject to the flammability standards for clothing textiles and vinyl plastic film. See 16 CFR Part 1610, Subpart B, and 16 CFR Part 1611, Subpart B.

The Commission uses the information compiled and maintained by firms that issue these guaranties to help protect the public from risks of injury or death associated with clothing and fabrics and vinyl film intended for use in clothing. More specifically, the information helps the Commission arrange corrective actions if any products covered by a guaranty fail to comply with the applicable standard in a manner that creates a substantial risk of injury or death to the public. The Commission also uses this information to determine whether the requisite testing was performed to support the guaranties.

OMB approved the collection of information in the regulations implementing the standards for clothing textiles and vinyl plastic film under control number 3041-0024. The Commission proposes to request an extension of approval for the collection of information in those regulations.

Additional Information About the Request for Extension of Approval of a Collection of Information

Agency address: Consumer Product Safety Commission, 4330 East West Highway, Bethesda, MD 20814.

Title of information collection: Standard for the Flammability of Clothing Textiles, 16 CFR Part 1610; Standard for the Flammability of Vinyl Plastic Film, 16 CFR Part 1611.

Type of request: Extension of approval without change.

General description of respondents: Manufacturers and importers of garments, fabrics, and related materials subject to the flammability standards for clothing textiles and vinyl plastic film.

Estimated number of respondents: 1,000 per year.

Estimated average number of hours per respondent: 101.6 per year.

Estimated number of hours for all respondents: 101,600 per year.

Estimated cost of collection for all respondents: $5.8 million per year.

Dated: January 28, 2010.
Todd A. Stevenson,
Secretary, Consumer Product Safety Commission.

[FR Doc. 2010-2302 Filed 2-2-10; 8:45 am]

BILLING CODE 6355-01-P